DEPARTMENT OF TRANSPORTATION

Notice of Final Federal Agency Actions on Proposed Highway Projects in Texas

AGENCY: Texas Department of Transportation (TxDOT), Federal Highway Administration (FHWA), U.S. Department of Transportation.

ACTION: Notice of limitation on claims for judicial review of actions by TxDOT and Federal agencies.

SUMMARY: This notice announces actions taken by TxDOT and Federal agencies that are final. The environmental review, consultation, and other actions required by applicable Federal environmental laws for these projects are being, or have been, carried-out by TxDOT pursuant to an assignment agreement executed by FHWA and TxDOT. The actions relate to various proposed highway projects in the State of Texas. These actions grant licenses, permits, and approvals for the projects.

DATES: By this notice, TxDOT is advising the public of final agency actions subject to 23 U.S.C. 139(l)(1). A claim seeking judicial review of TxDOT and Federal agency actions on the highway projects will be barred unless the claim is filed on or before the deadline. For the projects listed below, the deadline is 150 days from the date of publication. If the Federal law that authorizes judicial review of a claim provides a time period of less than 150 days for filing such a claim, then that shorter time period still applies.

FOR FURTHER INFORMATION CONTACT: Carlos Swonke, Environmental Affairs Division, Texas Department of Transportation, 125 East 11th Street, Austin, Texas 78701; telephone: (512) 416-2734; email: carlos.swonke@txdot.gov. TxDOT's normal business hours are 8:00 a.m.-5:00 p.m. (central time), Monday through Friday.

SUPPLEMENTARY INFORMATION: The environmental review, consultation, and other actions required by applicable Federal environmental laws for these projects are being, or have been, carried-out by TxDOT pursuant to 23 U.S.C. 327 and a Memorandum of Understanding dated December 9, 2019, and executed by FHWA and TxDOT.

Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting TxDOT at the address provided above.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act [33 U.S.C. 1251-1377] (Section 404, Section 401, Section 319); Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Executive Orders: E.O. 11990 Protection of Wetlands; E.O. 11988 Floodplain Management; E.O. 12898 Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. IH 30 from IH 35E to IH 45 in Dallas County, Texas. The proposed improvements consist of the full reconstruction of the proposed urban freeway with six mainlanes in each direction, and discontinuous frontage roads. The proposed exit and entrance ramps will be on the right to meet driver expectations and to improve safety. The proposed mainlanes would consist of six 12-foot-wide travel lanes in each direction, and 10-foot-wide inside and outside shoulders. The project would also include ramping improvements and widen cross street bridges to provide 12-foot wide travel lanes and add dedicated bicycle lanes in both directions. The total project length is approximately 1.5 miles. The purpose of the proposed project is to improve safety and mobility and accommodate future traffic demands. The actions by TxDOT and Federal agencies and the laws under which such actions were taken are described in the Categorical Exclusion Determination issued on December 7, 2020, and other documents in the TxDOT project file. The Categorical Exclusion Determination and other documents in the TxDOT project file are available by contacting TxDOT at the address provided above or the TxDOT Dallas District Office at 4777 E Highway 80, Mesquite, TX 75150; telephone: (214) 320-4480.

2. Rocket Lane/Schaefer Road from E Norris Drive to Loop 1604, Bexar County, Texas. The project includes the construction of additional travel and turn lanes, bicycle and pedestrian accommodations, and drainage improvements. The project is approximately 0.8 miles in length. The actions by TxDOT and Federal agencies and the laws under which such actions were taken are described in the Categorical Exclusion issued on December 15, 2020, and other documents in the TxDOT project file. The Categorical Exclusion determination and other documents in the TxDOT project file are available by contacting TxDOT at the address provided above or the TxDOT San Antonio District Office at 4615 NW Loop 410, San Antonio, TX 78229; telephone: (210) 615-5839.

3. US 67 at Lake Ridge Parkway in Dallas and Ellis Counties, Texas. The proposed project would include a grade separation at Lake Ridge Parkway and the reconstruction of US 67 mainlanes and frontage roads from north of Shiloh Road to south of Mt. Lebanon Road. The proposed US 67 mainlanes would consist of four 12-foot lanes (two in each direction), 22-foot inside shoulder, and 10-foot outside shoulders. A 26-foot wide grassy median would separate northbound and southbound mainlanes. The 22-foot inside shoulder would be restriped in the future to add one additional travel lane in each direction. The proposed improvements to Lake Ridge Parkway would consist of a grade-separated interchange with an overpass of US 67, six 12-foot lanes (three in each direction), 10-foot raised median, curb and gutter, and Texas U-turns. The total project length is approximately 1.9 miles. The purpose of the proposed project to reduce traffic congestion, enhance connectivity, and improve mobility and safety. The actions by TxDOT and Federal agencies and the laws under which such actions were taken are described in the Categorical Exclusion Determination issued on February 4, 2021, and other documents in the TxDOT project file. The Categorical Exclusion Determination and other documents in the TxDOT project file are available by contacting TxDOT at the address provided above or the TxDOT Dallas District Office at 4777 E Highway 80, Mesquite, TX 75150; telephone: (214) 320-4480.

4. FM 2001 from I-35 to SH 21, Hays and Caldwell Counties, Texas. The project will improve and realign FM 2001 to include construction of four travel lanes, two in each direction, with a raised median and sidewalks along urban portions of the proposed roadway and a center left turn lane and wide outside shoulders in the suburban section. The project is approximately 8.5 miles in length. The actions by TxDOT and Federal agencies and the laws under which such actions were taken are described in the Final Environmental Assessment (EA), the Finding of No Significant Impact (FONSI) issued on January 24, 2021 and other documents in the TxDOT project file. The EA, FONSI and other documents in the TxDOT project file are available by contacting TxDOT at the address provided above or the TxDOT Austin District Office at 7901 North I-35, Austin, TX 78753; telephone: 512-832-7000.

5. Loop 1604 from SH 16 to I-35, Bexar County, Texas. The project will expand Loop 1604 to a ten-lane expressway. The layout of auxiliary lanes and entrance and exit ramps would be reconfigured. The interchange at I-10 would be modernized by removing the cloverleaf connectors, adding direct connectors, and replacing the signalized frontage road intersections with a continuous flow configuration. The project would include accommodations for bicyclists and pedestrians, water quality protection, and other highway features. All improvements would be located within the existing right of way and easements. The project is approximately 24 miles in length. The actions by TxDOT and Federal agencies and the laws under which such actions were taken are described in the Final Environmental Assessment (EA), the Finding of No Significant Impact (FONSI) issued on February 4, 2021 and other documents in the TxDOT project file. The EA, FONSI and other documents in the TxDOT project file are available by contacting TxDOT at the address provided above or TxDOT San Antonio District Office at 4615 NW Loop 410, San Antonio, TX 78229; telephone: (210) 615-5839.

6. US 377 from BUS 377E to US 380, Denton County, Texas. The proposed project would reconstruct, realign, and widen US 377 within the proposed limits. Improvements would include the expansion of the current 2-lane rural roadway to a 6-lane urban roadway with a raised median. Improvements would consist of 12-foot-wide travel lanes, 14-foot-wide outside shared-use lanes, and 5-foot sidewalks. The length of the proposed project is approximately 13.7 miles. The purpose of the proposed project is to reduce traffic congestion on the existing roadways; to improve operations of the roadway; to increase mobility (including pedestrian and bicycle accommodations); and, to provide improved connectivity to the area. The actions by TxDOT and Federal agencies and the laws under which such actions were taken are described in the Final Environmental Assessment (EA), Finding of No Significant Impact (FONSI) issued on February 17, 2021 and other documents in the TxDOT project file. The EA and other documents are available by contacting TxDOT at the address provided above or the TxDOT Dallas District Office at 4777 E Highway 80, Mesquite, TX 75150; telephone: (214) 320-4480.

Authority: 23 U.S.C. 139(l)(1).

Michael T. Leary,
Director, Planning and Program Development, Federal Highway Administration.

[FR Doc. 2021-06434 Filed 3-26-21; 8:45 am]

BILLING CODE 4910-22-P